DEPARTMENT OF COMMERCE

International Trade Administration

[C-560-829]

Uncoated Paper From Indonesia: Preliminary Results of Countervailing Duty Administrative Review; 2018

AGENCY: Enforcement and Compliance, International Trade Administration, Department of Commerce.

SUMMARY: The Department of Commerce (Commerce) preliminarily determines that countervailable subsidies are being provided to producers and exporters of uncoated paper from Indonesia during the period of review (POR) January 1, 2018 through December 31, 2018.

DATES: Applicable November 8, 2019.

FOR FURTHER INFORMATION CONTACT: William Miller, AD/CVD Operations, Office II, Enforcement and Compliance, International Trade Administration, U.S. Department of Commerce, 1401 Constitution Avenue NW, Washington, DC 20230; telephone: (202) 482-3906.

SUPPLEMENTARY INFORMATION:

Background

On March 5, 2019, Commerce published a notice of opportunity to request an administrative review of the countervailing duty (CVD) order on uncoated paper from Indonesia covering the period January 1, 2018 through December 31, 2018.¹ Commerce received a timely request from the petitioners ² for an administrative review of the countervailing duty order with respect to PT Anugerah Kertas Utama, PT Riau Andalan Kertas, APRIL Fine Paper Macao Offshore Limited, PT Asia Pacific Rayon, PT Sateri Viscose International, A P Fine Paper Trading (Hong Kong) Limited, and APRIL International Enterprise Pte. Ltd. (collectively, APRIL).³ On May 29, 2019, Commerce published a notice of initiation of an administrative review of the CVD order on uncoated paper from Indonesia with regard to the seven APRIL companies.⁴

¹ See Antidumping or Countervailing Duty Order, Finding, or Suspended Investigation; Opportunity To Request Administrative Review, 84 FR 7877 (March 5, 2019).

² Domtar Corporation, P.H. Glatfelter Company, the Packaging Corporation of America (PCA), and the United Steel, Paper and Forestry, Rubber, Manufacturing, Energy, Allied Industrial and Service Workers International Union, AFL-CIO, CLC (the USW) (collectively, petitioners).

³ See Petitioners' Letter, “Administrative Review of the Countervailing Duty Order on Uncoated Paper from Indonesia (POR 1/1/2018-12/31/2018)—Petitioners' Request for an Administrative Review,” dated April 1, 2019.

⁴ See Initiation of Antidumping and Countervailing Duty Administrative Reviews, 84 FR 24743 (May 29, 2019).

On May 3, 2019, APRIL notified Commerce that APRIL will not be participating in the 2018 administrative review.⁵

⁵ See APRIL's Letter, “Uncoated Paper from Indonesia,” dated May 3, 2019.

Scope of the Order

The product covered by the order is certain uncoated paper from Indonesia. The subject merchandise is currently classifiable under Harmonized Tariff Schedule of the United States (HTSUS) categories 4802.56.1000, 4802.56.2000, 4802.56.3000, 4802.56.4000, 4802.56.6000, 4802.56.7020, 4802.56.7040, 4802.57.1000, 4802.57.2000, 4802.57.3000, and 4802.57.4000. Some imports of subject merchandise may also be classified under 4802.62.1000, 4802.62.2000, 4802.62.3000, 4802.62.5000, 4802.62.6020, 4802.62.6040, 4802.69.1000, 4802.69.2000, 4802.69.3000, 4811.90.8050 and 4811.90.9080. While HTSUS subheadings are provided for convenience and customs purposes, the written description of the scope of the order is dispositive.⁶

⁶ For a complete description of the scope of the order, see Memorandum, “Decision Memorandum for the Preliminary Results of the Countervailing Duty Administrative Review of Uncoated Paper from Indonesia; 2018,” (Preliminary Decision Memorandum), dated concurrently with, and hereby adopted by, this notice.

Use of Facts Otherwise Available and Application of Adverse Inferences to APRIL

Subsequent to the initiation of this administrative review, Commerce issued the initial questionnaire in a letter to the Government of Indonesia (GOI) dated June 20, 2019.⁷ APRIL failed to respond entirely to the questionnaire by the specified deadline. Additionally, the GOI did not submit requested information related to APRIL in response to Commerce's initial questionnaire. Therefore, because necessary information is not available on the record and because both APRIL and the GOI failed to respond to Commerce's request for information, we preliminarily find that the use of facts available is warranted, pursuant to section 776(a)(1) and 776(a)(2)(A), (B) and (C) of the Tariff Act of 1930, as amended (the Act). Moreover, because APRIL and the GOI did not cooperate to the best of their ability, pursuant to 776(b) of the Act, we preliminarily find that use of adverse facts available (AFA) is warranted to ensure that APRIL does not obtain a more favorable result by failing to cooperate than if it had fully complied with our request for information.

⁷ See Commerce's Letter, “2018 Countervailing Duty Administrative Review of Certain Uncoated Paper from Indonesia: Countervailing Duty Questionnaire,” dated June 20, 2019.

For further information, see “Use of Facts Otherwise Available and Adverse Inferences” in the Preliminary Decision Memorandum.⁸ The Preliminary Decision Memorandum is a public document and is on file electronically via Enforcement and Compliance's Antidumping and Countervailing Duty Centralized Electronic Service System (ACCESS). ACCESS is available to registered users at https://access.trade.gov, and to all parties in the Central Records Unit, Room B8024 of the main Commerce building. In addition, a complete version of the Preliminary Decision Memorandum can be found at http://enforcement.trade.gov/frn/. The signed Preliminary Decision Memorandum and the electronic version of the Preliminary Decision Memorandum are identical in content. A list of the topics discussed in the Preliminary Decision Memorandum is attached as an Appendix to this notice.

⁸ See Preliminary Decision Memorandum.

Preliminary Results of Review

We preliminarily determine the following net countervailable subsidy rate for the period January 1, 2018 through December 31, 2018:

Company | Net subsidy rate Ad Valorem (percent)
PT Anugerah Kertas Utama, PT Riau Andalan Kertas, APRIL Fine Paper Macao Offshore Limited, PT Asia Pacific Rayon, PT Sateri Viscose International, A P Fine Paper Trading (Hong Kong) Limited, and APRIL International Enterprise Pte. Ltd. (collectively, APRIL) | 104.00

Disclosure

Normally, Commerce discloses to interested parties the calculations performed in connection with the preliminary results of a review within ten days of its public announcement, or if there is no public announcement, within five days of the date of publication of the notice of preliminary results in the Federal Register, in accordance with 19 CFR 351.224(b). However, because Commerce preliminarily applied AFA to the sole company that is under review (i.e., APRIL), in accordance with section 776 of the Act, and because our calculation of the AFA subsidy rate is outlined in the Preliminary Decision Memorandum,⁹ there are no further calculations to disclose.

⁹ Id.

Public Comment

Interested parties may submit case briefs no later than 30 days after the date of publication of this notice.¹⁰ Rebuttal briefs, limited to issues raised in the case briefs, may be filed no later than five days after the time limit for filing case briefs.¹¹ Parties who submit case briefs or rebuttal briefs in this proceeding are encouraged to submit with each argument: (1) A statement of the issue; (2) a brief summary of the argument; and (3) a table of authorities.¹² Case and rebuttal briefs should be filed using ACCESS.¹³

¹⁰ See 19 CFR 351.309(c)(ii).

¹¹ See 19 CFR 351.309(d)(1).

¹² See 19 CFR 351.309(c)(2) and (d)(2).

¹³ See 19 CFR 351.303.

Pursuant to 19 CFR 351.310(c), interested parties who wish to request a hearing must submit a written request to the Assistant Secretary for Enforcement and Compliance, filed electronically via ACCESS. An electronically-filed document must be received successfully in its entirety by ACCESS by 5 p.m. Eastern Time within 30 days after the date of publication of this notice.¹⁴ Hearing requests should contain: (1) The party's name, address, and telephone number; (2) the number of participants; and (3) a list of issues to be discussed. Issues raised in the hearing will be limited to issues raised in the briefs. If a request for a hearing is made, parties will be notified of the time and date for the hearing to be held at the U.S. Department of Commerce, 1401 Constitution Avenue NW, Washington, DC 20230.¹⁵

¹⁴ See 19 CFR 351.310(c).

¹⁵ Id.

Commerce intends to issue the final results of this administrative review, including the results of its analysis of arguments raised in any written briefs, no later than 120 days after the publication of these preliminary results in the Federal Register, unless otherwise extended.¹⁶

¹⁶ See section 751(a)(3)(A) of the Act.

Assessment

Consistent with section 751(a)(1) of the Act and 19 CFR 351.212(b)(2), upon issuing the final results of this review, Commerce will determine, and U.S. Customs and Border Protection (CBP) shall assess CVDs on all appropriate entries. Commerce intends to issue appropriate assessment instructions to CBP 15 days after publication of the final results of this review.

Notification to Interested Parties

This notice is issued and published in accordance with sections 751(a)(1) and 777(i)(1) of the Act, and 19 CFR 351.213 and 351.221(b)(4).

Dated: November 1, 2019.
Jeffrey I. Kessler,
Assistant Secretary for Enforcement and Compliance.

Appendix

List of Topics Discussed in the Preliminary Decision Memorandum

I. Summary

II. Background

III. Scope of the Order

IV. Application of Facts Available and Adverse Inferences

V. Recommendation

[FR Doc. 2019-24415 Filed 11-7-19; 8:45 am]

BILLING CODE 3510-DS-P